DEPARTMENT OF ENERGY

Federal Energy Regulatory Commission

Combined Notice of Filings

Take notice that the Commission has received the following Natural Gas Pipeline Rate and Refund Report filings:

Filings Instituting Proceedings

Docket Number: PR18-12-001.

Applicants: Rocky Mountain Natural Gas LLC.

Description: Tariff filing per 284.123(b),(e)+(g): Amended Statement of Operating Conditions to be effective 11/1/2017.

Filed Date: 1/4/18.

Accession Number: 201801045167.

Comments Due: 5 p.m. ET 1/25/18.

284.123(g) Protests Due: 5 p.m. ET 1/25/18.

Docket Number: PR18-19-000.

Applicants: Louisville Gas and Electric Company.

Description: Tariff filing per 284.123(b),(e)/: Revised Operating Statement to be effective 12/7/2017.

Filed Date: 1/5/18.

Accession Number: 201801055111.

Comments/Protests Due: 5 p.m. ET 1/26/18.

Docket Number: PR18-20-000.

Applicants: Columbia Gas of Ohio, Inc.

Description: Tariff filing per 284.123(b),(e)/: COH Rates Effective 1-2-2018 to be effective 1/2/2018.

Filed Date: 1/8/18.

Accession Number: 201801085082.

Comments/Protests Due: 5 p.m. ET 1/29/18.

Docket Number: PR18-21-000.

Applicants: Columbia Gas of Maryland, Inc.

Description: Tariff filing per 284.123(b),(e)/: CMD Rates Effective 1-1-2018 to be effective 1/1/2018.

Filed Date: 1/8/18.

Accession Number: 201801085083.

Comments/Protests Due: 5 p.m. ET 1/29/18.

Docket Number: PR18-22-000.

Applicants: Public Service Company of Colorado.

Description: Tariff filing per 284.123(b),(e)+(g): 20180108_SOR Interim GRSA Eff 1-1-2018 and FLU Change to be effective 1/1/2018.

Filed Date: 1/9/18.

Accession Number: 201801095099.

Comments Due: 5 p.m. ET 1/30/18.

284.123(g) Protests Due: 5 p.m. ET 3/12/18.

Docket Number: PR18-4-001.

Applicants: Alpine High Pipeline LLC.

Description: Tariff filing per 284.123(b),(e)/: Amendment to Petition for NGPA Section 311 Rate Approval to be effective 9/26/2017.

Filed Date: 1/9/18.

Accession Number: 201801095187.

Comments/Protests Due: 5 p.m. ET 1/30/18.

Docket Numbers: RP18-339-000.

Applicants: Ozark Gas Transmission, L.L.C.

Description: § 4(d) Rate Filing: Clean-up Filing—Contact Information & Expired NegRate to be effective 2/9/2018.

Filed Date: 1/10/18.

Accession Number: 20180110-5024.

Comments Due: 5 p.m. ET 1/22/18.

Docket Numbers: RP18-340-000.

Applicants: Trailblazer Pipeline Company LLC.

Description: § 4(d) Rate Filing: Neg Rate 2018-01-10 Mieco PALS to be effective 1/10/2018.

Filed Date: 1/10/18.

Accession Number: 20180110-5095.

Comments Due: 5 p.m. ET 1/22/18.

Docket Numbers: RP18-341-000.

Applicants: Guardian Pipeline, L.L.C.

Description: § 4(d) Rate Filing: Negotiated Rate PAL Agreement—Twin Eagle Resources LLC to be effective 1/10/2018.

Filed Date: 1/10/18.

Accession Number: 20180110-5162.

Comments Due: 5 p.m. ET 1/22/18.

Docket Numbers: RP18-342-000.

Applicants: Viking Gas Transmission Company.

Description: § 4(d) Rate Filing: Negotiated Rate PAL Agreement—Twin Eagle Resource Management, LLC to be effective 1/10/2018.

Filed Date: 1/10/18.

Accession Number: 20180110-5167.

Comments Due: 5 p.m. ET 1/22/18.

Docket Numbers: RP18-343-000.

Applicants: Gulf South Pipeline Company, LP.

Description: § 4(d) Rate Filing: Amendments to Neg Rate Agmts (QEP 37657-236, 36601-69) to be effective 1/11/2018.

Filed Date: 1/11/18.

Accession Number: 20180111-5041.

Comments Due: 5 p.m. ET 1/23/18.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 11, 2018.
Kimberly D. Bose,
Secretary.

[FR Doc. 2018-00744 Filed 1-17-18; 8:45 am]

BILLING CODE 6717-01-P